DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending September 30, 2025. For purposes of this listing, long-term residents, as defined in section 877(e)(2), are treated as if they were citizens of the United States who lost citizenship.

Last name | First name | Middle name/initials
ABAJOLI | SEBASTIEN | GEORGES THIERRY
ABRAMI | OSHIN |
ADAIR | HELEN | MARY
ADAIR | JANNA | LEE
ADAIR | THOMAS | JAMES
ADAIR | WILLIAM | KIRKWOOD
ADAMS | CHARLES | GIDEON
ADAMS | SUSAN | LYNN
ADAMSON | AMY |
ADDAWOOD | IYAD | ABDULMOHSIN
ADDERLEY | AMY | STONE
AHMED | ZUMAR |
AHO | LAURA | MARIA
AKAE | MEGUMI |
AKITT-PATTERSON | BETH | ALAINE
AKOMAH | JEFFREY | KWAFO
ALBERT | ANATHEA | MICHELLE
ALBERTI | ANGELE | ALEXANDRA MARIE
ALBERTI | MARTHA | LYNN
ALBINO | WILLIAM | MICHAEL
ALDEKHAYYIL | FAISAL | ABDULLAH
AL-JABI | WAEL |
ALLEN | BENJAMIN | NORMAN
ALLEN | EWAN | ARTHUR
ALLEN | FABIAN | HORATIO
ALLEVATO | JOSEPH | JAMES
ALMAHMEED | TAGHREED |
ALMUSA | LORRAINE | ESTHER
ALPERT | ALAN | JAMES
AL-RASHED | RASHED | ABDULAZEEZ
ALT | SHARNA | CRICKET
AMALIKSEN | INGVID |
AMANN | MARKUS |
AMAR | MAYA |
AMIRZAI | ARYUB |
ANDERBERG | RUTH | INGA
ANDERSON | PETER | CARL
ANDERSSON | CHRISTOPHER | KARL OLOF
ANDERSSON | MIKAEL | ERIK
APPENZELLER | HELENA | BARBARA
ARAICHE | DANIELLE | MARIE
ARANHA MACKENZIE | LORI | JO
ARBID | SAHAR |
ARENDT | NICOLE | JACQUELINE
ARIE | MARGARET | ELEANOR
ARQUISCH | AGNES |
ASHTON | SARAH | HELEN
ASKEY | DALE | STEVEN
ASKEY | JENNIFER | DRAKE
ASPELL | JAMES | ANDREW
ASSAF | ROBERT | LEO
ATTARD | BONNIE | ELAINE
ATTWOOD | KATE | KANTER
ATTYANI | KAMAL |
AUBE | MARY | ELIZABETH FERNANDE
AUBE-FRENETTE | MARC-DAVID |
AUERBACH | ANDREW | DAVID
AVINI | AVID | KAMRAN
BADERTSCHER | PATRICK |
BAER | SUSAN |
BAID | NEERAJ |
BAILEY | CHARLES | HENRY
BAILEY | EMMA | LOUISE
BAKER | LESLIE | ANN
BALL | ERIC | LADD
BALLANTYNE | ALEXANDER | STEWART
BALLANTYNE | KIT |
BALLANTYNE | MARGARET | CATHERINE
BALTENSPERGER | AISHA |
BALTHAZARD | MYCHELLE | GRINETTE
BARBERIS | BEAU | DEE
BARBOUR | PAUL |
BARDOUL | PATRICK | MICHEL PIERRE
BARNETT | TIMOTHY | C. D.
BARON | TIMOTHY | GLENN
BARRETT | BENJAMIN | JOHN
BASTIAN | DONALD | GREGORY
BATES | ROBIN | BRYAN
BAXTER | GERALD | ALLEN
BAXTER | SCOTT | ALLEN
BAYLIN | DEBRA | JANE
BEARMAN | MARGARET | LYNN
BEASLEY | AMEL | CLARKEY
BEASLEY | TYLER | JAMES
BEATTIE | LEBINH |
BECHARD | RENEE | ROSE
BECK | LANION | LEIGHTON
BEDROSSIAN | SOPHIE | GILLIAN
BEER | SOPHIE | NICHOLA
BEGG | RACHEL | ALEXANDRA
BEHL | VIRGINIA | RAE
BEHN | LAURA | MICHELE
BELL | COLLEEN | VICTORIA
BELL | JOHN | EDWARD
BEN-CHOREEN | AVIVA | RIVKA
BENICK | GAIL | SUE
BENNETT | ADAM | JACKSON
BENNETT | AIMEE | JO
BENSON | AARON | MICHAEL
BENTLEY | RACHEL | ANNE
BERDAT | DANIEL | ANDRE
BERETTA | JENNIFER | ISADORA
BERETTA | JULIE | ELSA
BERG | MICHELLE | LEE
BERGERON | CAROLINE | LEA
BERGSTEDT | NICHOLAS | PIERRE
BERNARDO | ARVIN | GERARD
BERNS | LINDSEY | G.
BESPFLUG | DARYL | ROBERT
BIANCHI | CRISTOBAL | RAUL
BIANCHI | PAOLA | SELMA GARZONI
BIGELOW-FOSTER | ANNE | BINGHAM
BILANSKI | LINDA | MAE
BILLER | SHONA | ANN
BILLINGSLEA | JESSICA |
BILLOT | ETIENNE | JULIEN
BINNIE | KENNETH | JOHN
BIRKY | MARTY | JAY
BIRTHWRIGHT | CHRISTOPHE | ANTHONY GOUIN
BISHKO | LESLIE | MARLENE
BISSELL | MARK | YALE
BISSETT | GRAHAM | WIILLIAM
BLACE | MICHAEL | JAMES
BLAKE | IAN | FRASER
BLAKE-WILSON | BRIDGET | MARY
BLOM | EMILY |
BLOMBERG | CHRISTOPHER | KIM
BLONDEL | LOUIS |
BLUESTEIN | GIULIA | SESSA
BODMER | VICKY | LYNN
BODNARCHUK | MARGARET | SUSAN
BOGATY | SOPHIA | ELIZABETH ROPE
BOHREN | MATTHIAS | ANDREAS
BOIKO | DARIA |
BOIN | KRISTINE | JOANNE
BOLTER | DAVID | THOMAS
BOND | MICHAEL | ROBERT
BOOMER | GEOFFREY | GEORGES
BORDEN | CAROL | ANN
BOREHAM | BEVERLY | ANN
BORTH | SONIA | FERREIRA
BOSCHUNG | JESSICA | DEBORAH
BOSWELL | LINDSAY | ALICE
BOURNE | SUSAN | GAIL
BOYD | EUGENIA | STRAHAN BEATTY
BRACKS | CAROLYN | THERESE
BRADLEY | CHRISTINE | ELYSE
BRANNAN | MARIA | THERESE EILEEN
BRATSBERG | JORGEN | BERCKENHOFF
BRATT | WANDA | JEAN
BRAZELTON | DONNA | JEAN
BREEZE | BRENT | WILLIAM
BRENCIC | VICTORIA | RENEE
BRITTON | AMELIA |
BRITTON | SUSAN | KATHLEEN
BROCHU | CAROL | LISE
BROCKLEHURST | SYLVIA | MARACICH
BROGAN | HELEN | KATHLEEN
BROOKS | SUSAN | MERYL
BROST | BRANDON | JOSEPH
BROUGHTON | KIM | FRANCES
BROWN | CHRISTINE | ROSALIN DORIS
BROWN | FREDRIC | SCOTT
BRUNE | DIANE | MARIE
BRUNGAR | ERIK | GUNNAR
BRUNNER | EVELINE | LIN
BUCHMUELLER | ASHLEY | ELISE
BUCKENS | VINCENT | JEROME
BUCKLEY | EMANUEL |
BURCH | KRISTOPHER | KELLY
BURGESS | JOHN | LEWIS
BURGESS | KYLE | ALEXANDER
BURKE | ALICIA | ELIZABETH
BURNETT | DIANA | JO
BURNETT | RUSSEL | TODD
BUSAT | RITA | CATHERINE
BUSBRIDGE | MATTHEW | GUY
BUTLER | MAKI | H.
BUTTERFIELD | ELIZABETH | STANFORD
BUXTON | SOPHIE | IRENE
BYNA | KATHERINE | SUE
CADBY | MARTIN | HENRY
CADICK | MARY | ANN
CAMERON | HUGH | ROBERT
CAMILLERI | THERESE | GARNETT
CAMPBELL | ALEXANDER | WILLIAM
CAMPBELL | CALLUM | IAIN
CAMPIONE-KARPENKO | ANNIS | RUTH
CAMPOS SCHWEITZER | JORDI | ENRIC
CANNON | JANE | MARIE
CARDELL | WENDY | LEE
CARDOZE-HENRIQUEZ | ROGELIO | ANTONIO
CARMEL | DANIELLE | LEBLANC
CARMODY | CHIOS | CLINTON
CARMODY | DAPHNE | EMILY
CARPENTER | GRANT | THOMAS
CARRICK | KENNETH | MALCOLM
CARTER | REBECCA | JANE
CARUSO | AGNIESZKA | MARIA
CASEDAY | MARKUS | CHRISTOPHER
CATT | JEREMY | GRAHAM
CATTANEO | MARIO | STEFANO
CERNIGOI | ADRIENNE |
CERVENY | ELIZABETH | ANGELA J. E.
CHAFFEY | KARL | HOWARD
CHAIKEN | KIM | MELANIE
CHAN | CHI | CHIU
CHAN | LILIA | LIM
CHANDRAN | MANJU |
CHANG | HYE | WON
CHANG | JAE | CHIL
CHANG | JEFF |
CHANG | WALTER |
CHAPMAN | HELEN | KATE
CHAPPELLE | CHRISTOPHER | SCOTT
CHARLTON | JOELY | KATHERINE
CHARMER | CASSANDRA | SUE
CHE | JODY | JUN REN
CHENG | YUE | CHING
CHEONG | CHOY | SHIN
CHEUNG | LIANA | LI ING
CHEUNG | YUET-PANG | STEVEN
CHEVALIER | RAYMOND |
CHIANG | JOSEPHINE | WU
CHOU | PAY | SION
CHOUINARD | NAOMI | ELISHEVA
CHOWDHURY | OLIE |
CHRISTENSEN | CHIE |
CHRISTIANSEN | JORG | THEODOR
CHRISTY | RACHAEL | MICHELE
CHUG | PARTH | CHAITANYA
CHUNG | MINSI |
CHUNG | WOO | JIN
CLAIRMAN | HOLLI-ELLEN | SCHLOSSER
CLAMP | CAITLIN | HARRIET
CLEGG | LAURA | BETH
CLEMENT | SHERA | RAQUEL
CLINTON | DOUGLAS | EDWARD
COBURN | KENNETH | TREVOR
COCKERLINE | JOANNA | ELIZABETH
CODAZZI | THOMAS |
COEN | SOPHIA | ROSE NIERLICH
COHAN | JASON | MOSES
COHEN | MICHAEL | ALBERT
COLE | MICHAEL | JOHN
COLUCCI | LUCIANO |
COMMONS | ROSE | MARY
CONNEALLY | KORIN | SUNG IL
CONNELL | GREGORY | JAMES
CONNOLLY | MARGARET | MARY
CONSTABLE | GABRIELLE | RACHEL
CONSTABLE | LOUISE | VAUGHAN
CONTE | SEAN | MATTHEW
COOPER | SHEILA | EVELYN
CORDRAY | WILLIAM | CHARLES
CORMAGGI | FRANCESCO |
CORMIER | JAMES | FRANCIS
CORMIER | MICHAEL | JAMES
CORRIGAN | EMMA | VICTORIA
COTE | KIMBERLY | ANN
COTTON | HEIDI | DENISE CLARE
COTTRELL | JILLIAN |
COUGHLIN | LAURA | KNIGHT DAY
COURCHESNE | DEITRE | JILL
COURVILLE | LYNN | ELENA
COX | CHRISTOPHER | JAMES
COX | JONATHAN | MATTHEW
COYLE | SUSAN | FRANCES
CRAIB | JOHN | LIGERTWOOD
CRASHLEY | MARGARET | LOUISE
CREWS | YUKI |
CRISTALLO | ANA | CRISTINA BERGAMINI
CRITCHLOW | MARGARET | SHANNON
CROSBIE | TESS | MARY ESTHER ANNE
CRUICKSHANK | KAREN | MARIE
CSONT | DAVID |
CULLETON | RAYMOND | GORTON
CUMMINGS | ZOE | MCCARRICK
CURRAN | CARIE | LYNN
CURRIE | PEGGY | ANN
CUSHING | THOMAS | SHAWN
DADSWELL | ADAM | WAYNE DURBIN
DAGENAIS | NATHLIE | RAPHAELLE
DALLAIRE | ISABELLE |
DANARD | CHARLOTTE | RUTH
DANESH-CLOUGH | HELENA | ZARA
DANESH-CLOUGH | JONATHON | NOVIN
DANESH-CLOUGH | MAXWELL | NAVID
DANN | CAROLYN | PATRICIA
DARWICHE | MONIKA |
DAUGHTERY | CHRISTOPHER | JOHN
DAVID | FLORIANE | NICOLE
DAVIES | BRYN | ASCHER
DAVIES | CETHLAN | FREDERICK
DAVIES | CHRISTINE | ANN
DAVIES | LAURA | LYNN
DAVIES | TERESA | JEAN
DAVIS | BETTY | CYNTHIA
DAVIS | FAITH | GLADYS
DAVIS | MARK |
DAVIS | SCOTT | FRANCIS
DAVIS-SLADE | KATHRYN | ANN
DAWKINS | BARBARA | JEAN
DAWKINS | KYLE | L.
DE FORESTA | CELIA | QUISQUEYA
DE GOOYER | ZACHARY | JOHN
DE GRUYTER | MICHAEL | JOHN
DE REUS | ADRIAAN | JASPER
DE SILVA | SAMPATH |
DE SIMONE | MARIA | PIA
DE VREIS | NATALIA | ANNA
DE WEIJER | RACHELLE | MONIQUE
DE WEIJER | RYAN | MARTIN
DE WINTER | YVONNE | CHANJO
DEAN | KRISTIANA | FRANCESCA
DECKE | EMILY | MADELEINE LOUISE
DECKERT | RONALD | JOSEPH
DELANEY | ANDREW | PHILIP
DELLA VALLE | ANNA | PAOLA
DELLER HAIGHT | MARGOT |
DEMERIS | ELIZABETH | MARIE
DEMOE | LAUREN | CELINE
DENSON | NIDA |
DEPIERRE | JULIE | VALENTINE
DERCHE | ANTOINE |
DERRER | RICHARD | DAVID
DESMARAIS | JOCELYNE | LISE
DEUTSCH | BENJAMIN | STEPHAN
DEVOR | TRUMAN | ANDREW GEORGE
DEVRIENT | ANNE | GOODE
DEWINGS | PHILIP | MARK
DILBERT | NELSON | LEE
DILLEY | LISA | EMMA
DIMECH | CRAIG | ANTHONY
DIMOND-GIBSON | KATHARINE | CLAIRE LOUISE
DIMOND-GIBSON | MATTHEW | JOHN ONEILL
DIRKSEN | ANTHONIA | WILLEMINA
DIXON | JOHN | EDWARD SAMUEL
DIXON | KENNETH | LYLE
DOERING-DINKEL | TERESA | DOROTHEA
DOERSAM | EV | INGRID
DOIL | LINDA | YVETTE
DOMEISEN-KIM | ELIZABETH | KYUNGAH
DOMINICE | MELISSA | IRENE
DONALDSON | KRIS | ALAN
DONKERVOORT | JANET | BALDREY
DOSHI | MANOJ | GAJENDRA
DREBERT | DAVID | ERNEST
DRIESSEN | MEREL | LOUISE
DRISCOLL | KATHLEEN | ANNE
DU PLOOY | TINA | MARIE
DUFFIELD | CRIAG | EDMUND JAMES
DULANEY | MATTHEW | JOHN
DUNKLE | KRISTINA | HELMECKE
DURANT | MASON | JOSEPH
DVORAK | DANIEL |
DWORKIN | ALEXANDER | CHARLES
DYSON | TAMMY | LYNN
EATON | CHRISTOPHER | FRANK
EATON | JONATHAN | BRUCE
EDEL | PHILIP | ROGER
EDELL | DENNIS | NELSON
EDWARDS | LEIGH | RONALD
EDWARDS | SUSAN | ELAINE
EFTHYVOULOS | CHARISSA | ANETTA
EHATAMM | LEMMIKI |
EHRHARDT | KAI |
EINSTEIN | TAMAR | YOSEFA
ELLEN | JUDY | LYNN
ELLISTON THOMAS | JANE | WALLACE
ELSENER-GLANZMANN | IRIS | CAROLYN
ELSNER | MICHAEL | JOSEF
ELTSCHINGER | DIANA |
EMISON | COURTNEY | ALYSSA
ENGSTROM | MARK | DOUGLAS
ENSZ | DELBERT | RAY
EPP | KATHERINE | BLAIRE
ERALP | IBRAHIM | LEVENT
ERIKSSON | MARIA | HELENA
ERTAN | MEHMET | EMRE
ESTERSON | SARAH | LOE
ETSCHINGER | DIANA |
EULER | ZACHARY | SULIN
EVANS | ANDREA | VANESSA
EVANS | ELIZABETH | ANNE
EVANS | SHARA |
FAITHFULL | INDIANA |
FAITHFULL | RHIANNA | LEE
FAKHOURI | DEEMA |
FALKINER | MARILYN | D'ARCY
FALL | NICHOLAS | ALEXANDER JULIAN
FAN | KEVIN |
FANKHAUSER | ZORAH |
FARR | CAROLYN | MAY
FARR | MARJORIE | JANE
FARRELL | JUDITH | MARY
FAVRON | HELENE |
FEENEY | MICHAEL | PATRICK-EDMUND
FEHR | FRED | WILLIAM
FENDERSON | CAROL | ANNE
FERGUSSON-HELLER | KAHUTIA | TE RANGI ERRGONG
FERLAND | NANCY | MARIE
FERNEINI | PATRICK |
FERRAZZI | MARIA |
FERREIRA | CRISTIANA | GRETHER
FIDLER | DONNA |
FIELD | MONTE | ALLEN
FINDLEY | ROBERT | ELDON
FINNEY | ADELE | ANN
FIORANELLI | JESSE | ANDREA
FISHER | MERYL | ROSLYN
FLEMMER | CATHERINE | JANE
FLETCHER | JOEL | MATTHEW
FLETCHER | KAREN | GAY
FLINNER | ANNIKA |
FLINNER | NADINE | BEATE
FLYNN | SEAN | MARTIN
FOCH | ALEXANDER | TIMOTHY
FOCH | CAROLINA | LARA
FOELLMER | MORITZ | JOHANNES
FORAN CRAIG | ANGELA | MARY
FORD | IAN | THOMAS
FORD | VIRGINIA | ELIZABETH
FOSBERY | IAN | THOMAS
FOSSUM | MICHELE | CHRISTINA
FOUAD | AMIR | ALEXANDER
FRAIWAT | ZIAD | SAMIR
FRANCESCO | NICHOLAS | GIAN
FRANCIS | MARK | MICHAEL
FRANCIS | SHANA | DARLENE
FRANKS | LISA | KATHRYN
FRASER | ALANA | LESLEY
FRASER | GLENN | R.
FRASER | NORMA | JEAN MAC MILLIAN
FRASER | REBECCA | LOUISE
FREEMAN-MILLS | GEORGIA | BEATRICE ROSE
FRETT | DENNIS |
FRISCHKNECHT | SIBYL | SUZANNE
FROSSARD | ALIZEE | ALDEN ANNETTE
FRY | FREDERICK | CHARLES JOSEPH
FUATAI | KAYLARINA | FAAFETAI
FUCHS | MATTHIAS |
FUCHS | TINA | ANDREA
FUJIMOTO | HIROKA |
FUJITA | YASUKO |
FUNKE | JULIUS | WILHELM
FURLAN | MARY | MARGARET
FURLAN | NICOLAS | JEAN-PHILIPPE
FURLAN | STEPHANIE | ELISA MARIE
FURUKUWA | KEN |
FURUKUWA | MASAKO |
GAD | YOAV |
GADSDEN | LILLIAN | SOPHRONIA
GAGE | STANLEY | ROBERTSON
GAGNON | JEAN |
GALLAGHER | TERESA | MARY
GALSON | SAMUEL | JONATHAN
GARAUD | LAURA | AGNES
GARCEAU | PATRICK |
GARCIA | NATHALIE |
GARDNER | HENRY | JOHN EDMUND
GARRISON | CLAIRE | LOUISE
GARTRELL | JOHN | MICHAEL
GARVIN | CHRISTOPHER | JOHN
GARZA | CAROLA |
GARZA | MAYA |
GATES | GREGORY | BRANDON
GAUCHAT | LAURENT | ROBIN
GE | XUAN |
GEEL | PATRICK |
GEIGER | JOHANNES | FRITZ
GERULATH | KARL | MICHAEL ALAN
GETTY | PATRICIA | ALISON
GHEEWALA | ANJLI |
GIBSON | ELIZABETH | ANNE
GIBSON | RAPHAELLA | ANAIS EMILY
GIFFORD | JEAN | KATHRYN
GILBERT | RUTH | CECELIA
GILES | DORIS |
GILES | RONALD |
GILL | JUSTINE | RATCLIFFE
GILLIES | JACK | WROTH
GILLIGAN | PETER | ALAN
GILLIS | STEVEN | ROBIN
GILMOUR | ALICE |
GIOVANNINI | MARCELA | EDITH
GLADHAUG | MIKKEL | ARNE PRYDZ
GLANNAZ | JENNIFER | BARBARA
GLOVER | ALISE-ANN | HOPE MARIE
GODFREY | JANA | CAROL
GOLDBLATT | EDEN |
GOLDSACK | PAMELA | RICHARDSON
GOLDSACK | VIRGINIA | MARJORIE
GOLLU | SRIRAMA | CHANDRA RAO
GONG | SHIHAN |
GONG | SHIMIN |
GONZALEZ | STEFAN |
GOPAL | SRIKUMAR |
GORMAN | PEGGY | ANNE
GOTTLIEB | LISA | CAROLINE
GRAHAM | CHARLES | ALAN
GRANT | ALEXANDER | EDWARD
GRASLEY | ETHAN | MITCHELL
GRATTAPAGLIA | RAFAEL | PORTELLA ALMEIDA
GRAVOUEILLE | JANET | CLAUDIA
GRAY | HEATHER | JEAN
GRAY | HEATHER | MARIE
GRAY | NINA | BARBARA
GREEN | KATHERINE | MARGARET
GREENING | JEREMY | CHRISTOPHER
GREGORY-BARNS | KATRIINA | LAURA
GRIFFIN | CHLOE |
GRILL | ROBERT | FRANK
GROOT | ANITA | OLGA
GROSS | BLAKE | EVAN
GROTSKY | ELYSA | BELLE
GROULX | VALERIE | MARIE ALINE
GULDIMANN-DEGEN | ROMA | VIRGINIA
GUNASEKARA | SWINITHA | M.
GUNDECHA | SAPNA | A.
GUNDLACH | STEPHANIE | CHRISTA
GUPTA | MANJU | ASHOK
GURULE | HEIDI | NADENE
GUTJAHR-LOCHER | ELLEN | BARBARA
GYR | MICHAEL | JOHANN
HABIB | FOUAD | SAMI
HABOUSH | DANIEL | LEWIS
HADJIIOANNOU | IOANNIS |
HAEFNER | JAKE | RANDALL GERARD PATRICK
HAGGART | JEANNE | MARIE
HAHN | KURT | LIESE
HAHN | TIMM | FLORIAN
HAINES | AMIRA | ROSELYN
HALL | ALEXANDER | MARTIN
HALL | JAMES | PETER MAURICE
HAMAD | NATALIE |
HAMEL | VIVIANNE | ROSE AVE
HAMILTON | LISA | KAY
HAMILTON | ROBYN | ANNE FRASER
HAN | VALENTINA | ISABELLA
HANDELMAN | DAVID | JAY
HANEDA | YASUMI |
HANSEN | MICHAEL | SCHERBECH
HANUTSAHA | TIAN |
HANVEY | CAITLIN |
HARDY | JOYCE | ELIZABETH
HARDY | KATHLEEN | ANN
HARE | VICTORIA | JANE
HARLEY | CAROL | YOSHIKO MCILROY
HARMSWORTH | CLAIRE | VANESSA
HARPER | DARLA | LEANNE
HARRIS | SARAH | LUCIA
HARROLD | JOHN | THOMAS
HARTMANN | JULIA | EVELYN
HARVEY | SAMANTHA | JAY
HARWOOD | DAPHNE |
HASEGAWA | MASAHIKO |
HASELER | PHILLIP | DENNIS
HATALLA | NAOKO |
HATFIELD | KAREN | LESLIE
HAURI | STEPHAN | MARTIN
HAYE | JONATHAN | ANDREW
HAYES | ELIZABETH | DIANE
HAYES | KENNETH | DONALD CHARLES
HAYES | MARY | EMILY
HAYES | SARA | ANNE
HAYNES | GORDON | BRENT
HAYWARD | TORBJORN |
HEAD | CHARLES | MICHAEL
HEAD | LISA | SUSAN
HEADLEY | DELLA | LEE
HEBERT | NANCY |
HEDEMAN | MARY | JANE
HEDEMAN | RANDALL |
HEESE | MORGAN | ELIZABETH
HEINEN-SINGAL | MELINDA | ANN
HEINZ | MATTHEW |
HELFRICH-PANZE | PATRICIA | PETRA MARIE
HELKE | THERESA | SOPHIA CAROLINE
HENKE | WAYNE | EDWARD
HENRIQUES | GISELE | MACIEL
HERMONAT | MARK | WILLIAM
HERNANDEZ | FERNANDO | ALEJANDRO
HERNANDEZ | TINA | BARBARA
HERR | CHARLES | RAYMOND
HERRMANN | JUERGEN | TILO
HESS | JANNIKE | JULIE
HETLAND | REBECCA | ANNE
HEWITT | JUSTIN | ROBERT
HIGHTOWER | ADAM | J.
HIJDRA | DYLAN | MAARTEN
HILL | BRIAN | THOMAS
HILL | EVILOU |
HILL | JEREMY | GILES GLENDON
HILL | SALLY | FRANCES
HILL | SUSAN | JANE
HILLMAN | SILVIA | ALMUT
HINRICHS | GRAYSON | DANTE DUTTON
HIRAI | YUMIKO |
HIRAYAMA | HIROMI |
HIRAYAMA | KAZUTO |
HIRONAKA | KEIJI |
HIRVONEN | HANNA-MARIA |
HOBAN | MICHELLE | MARIANNE
HOBBS | MEREDITH | DANA
HODGE | RACHEL |
HODGE | STUART | KEVIN
HOFFMAN | RUTH | ELAINE
HOFFMAN | SHELLEY | JANE
HOFWEBER | CHERYL | LOUISE
HOICKA | KATHLEEN | MARIA
HOINVILLE | DAVID | MARTIN
HOISINGTON | CAROLINE | GODDARD
HOLGATE | MARGARET | ELIZABETH
HOLLAND | VALERIE | FRANCINE
HOLLIDAY | MARY | RUTH
HOLLOWAY | DAVID | MICHAEL
HOLM | JERI-ANN |
HOLM | REIKO |
HOLT | BRENDA | LEANN
HOLZ | CYNTHIA | NORA
HONJO | CHIE |
HONJO | ICHIRO |
HOPE | ALEXANDER | PAUL
HOPKINS | ALAN | JOHN
HOPKINS | BENJAMIN | KLAUS
HOPKINS | CHRISTOPHER | WILLIAM
HOPKINS | IVAN | JOHN THEYER
HOPKINS | MANDY | SUZANNE
HOROWITZ | BARI |
HOTSON | CHRISTOPHER | EDWIN ASHLEY
HOUSEHOLDER | ROBERT | FRANCIS
HOUSTON | CATHRYN | JANE MARJORIE
HOWELL | AMANDA |
HOWELL | RICHARD | K.
HOWLEY | GARY | JAMES
HSIEH | TUNG | HAN
HSU | CATHERINE | PEI-LIN
HU | SIMON |
HU | YIKE |
HUANG | ETHAN |
HUANG | SHIH | HAO
HUG | THOMAS | GERHARD JOSEF
HUGHES | ALICIA | SAMORN
HUGHES | DEVON | ROSS PETTEY
HUGHES | JOHN | CHARLES
HUIBERTS | TIMOTHY | ALLAN
HULL | KATHERINE | LEIGH
HUNTER-WALSH | HARRISON | EDWARD
HUSTING | CLAIRE | CATHRIN
HUSTIS | NANCY | LEIGH
HUTTON | RICHARD | LEE
HUZEL | JENNIFER |
IANZITI | GARY | J.
IIDA | ERIKO |
IIJIMA | KEIKO |
ILS | ANJA |
INGLIS | MURRAY | DARRYL
IRIAWAN | DENNY | ROBERT
IRIAWAN | MEGAWATI |
ISHIGURO | EDWARD | EIICHI
ITAYA | SHOKO |
JACKS | DAVID | STEVEN
JACOBSON | ELIZABETH | FAITH
JACOBSON | GAIL | RASCO
JADO | ISMAIL | ABDUL RAOF
JAMES | JEREMY | EDWARD
JAMES | NANCY | KATHRYN ELISABETH
JAMMERS | JULIANNE | THOMAS
JANUSKY | ANTHONY | WALTER
JANZEN | DANIELLE | MARI
JANZEN | NAOMI | JEAN
JARJOUR | MARC |
JEAN | MELANIE | SARA
JEFFERIES | IRENE | ELEANOR
JENKINS | LYNNE | SUZANNE
JENNI | MELISSA | BETH
JENNINGS | DEANNA | CHRISTINE
JENSEN | HAZEL | LOUISE
JENSEN | JORGEN | BJORNEVAD
JESINGHAUS | GRETA |
JIANG | JENNIFER | YANG
JILLISSEN | GAIL | MAUREEN
JOBIN | LUCIE |
JOFFE | ADA |
JOHANSSEN | CHRISTIANE | BEATE
JOHNSON | ELIZABETH | SARAH
JOHNSON | GLENN | ANDREW
JOHNSON | KIAN | STUART CLARK
JOHNSTON | MARY |
JONES | CHRISTOPHER | DENNIS
JONGEN | ERICA | WENDY
JONSSON | JON | GREGERZ
JORGE-FINNIGAN | CONRADO |
JOYCE | THOMAS | GERARD
JUKES | STACEY | LYNN
JUTZI | VALENTINA | JULIA
KABRA | RUCHA | PRASANNA
KADISH | SHANE | DANIEL
KAMASA SCHLUMPF | LOTTE | CHRISTINE
KANDEL | CHRISTOPHER | EDWARD
KANE | NICHOLAS | ISAAC
KANG | JI | EUN
KANT | AVANISH |
KANT | SANGEETA |
KARATSUMA-DOODIGIAN | RINA |
KARLSEN | KATHRYN | SUZANNE
KARRI | HIMAJA |
KARTHAUS | WOUTER | RICHARD
KASSOUF | LENA |
KAUFMAN | CLAIRE | MIREILLE
KAY | KRISTIN | ALEXANDRA MARY
KEENAN | IAN | BRANDON
KEI | CHRISTINA | NARI
KELLEY | CHARLES | GREGORY
KELLY | KIERAN | HENRI
KELLY | KIRSTIN | HEATHER
KEMPEL | KATHLEEN | ELIZABETH
KENDALL | MELLISSA | ROBIN
KENNEDY | SARAH | JANE
KENWORTH | TODD | ANDREW
KERMALLY | TURABALI | Z.
KERSTEN | PHILIP |
KETTNER | JACOB | MATTHEW
KHA | GORDON |
KHALIL | RAMI |
KHAWAJA | ARBAZ | HASAN
KHAZANI | MICHAEL |
KIBERD | MATHEW | BRYCE
KILLORAN | ERIN | ROSEMARY GOODSTADT
KIM | JAEJOON |
KIM | JE | HEE
KIM | KIHONG |
KIM | MAN | SANG
KIM | SAM | YONG SANG
KIM | SE | YOUNG
KIM | SEONG | HEE
KIM | SOO | BUM
KIM | WON | KYUNG
KIM | YONG | KYUN
KIM | YOON | JA
KIMES | ENID | LOUISE
KIMPTON-CUELLAR | JALIN | ANTHONY
KING | STACEY | LYNNE
KINTER | LISA | ANN
KITOWSKI | RAPHAEL |
KLAASSEN | DAVID | GERHARD
KLANDERMAN | JASON | ALEXANDER
KLEIN | INGO |
KLOSE | DANIEL |
KNOX | BETH | ELLEN
KNUTTILA | AMANDA | LEE MARIANNE
KOEPPLINGER | GEOFFREY | DAVID
KOFFYBERG | JOSETTE | GLADYS
KOGA | TAKIKO |
KOHLER | KIMIYO | H.
KOHLER | RICHARD | ARTHUR
KOMANS | PATRICIA | FRANCES
KOMATSU | FUJIKO |
KORSH | SASHA | SUSANNE
KORTSCHAK | ERNEST | WERNER
KOTANI | YAEKO |
KOVEN | KATHERINE | SMUCKER
KOYANAGI | CHIKA |
KRACHUN | CARLA | SUSAN
KREPS | LISA | ELLI
KRISHNAN | AARTI | ANANTH
KRISTJANSON | KATHY | ANN
KROMBERG | MARIE | S.
KUBOTERA | MICHIKO |
KUCHTARUK | ADRAIN | ANDREW
KUGELMEIER | ANDREAS |
KUK | JENNIFER | LINCHEE
KUKENYS | IGNAS |
KUNG | JESSICA |
KUNG GUGLER | ANNE |
KUNWAR | REVANT |
KUNZE | THOMAS | KARL
KURY | SOPHIE | CLAIRE
KUSHNER | MARIAN | RUTH YORK
KWON | YONG | RAE
KYRIACOU | ALEXANDER | ROBERT
LABRECQUE-BELANGER | EMILIE |
LACERTE | MARYSE |
LACHNER | CHRISTOPHE |
LAJEUNESSE GRABOSKI | WENDY | NOELLE
LALANI | NADIM |
LAM | LOUISE | NICOLE
LAM | MARK | EN
LAMARRE | MAXIM |
LANDOLT | SUSANNE | URSULA
LANE | NAOMI |
LANG | PHUNG | THI KIM
LANOIX | ERIC | LOUIS-MARIE
LAPELLE | DOROTHY | JUNE
LARSEN | BJORN | M.
LASHER | ERICA | JEANNINE
LASS | CHRISTINE | ANN
LASS | MADELINE | MARTY
LAU | CHRIS | HAK-WAN
LAU | NATALIE | DIC HANG
LAURORA | PATRICIA | ALEJANDRA
LAVIGNE | ALEXIS | LOUIS
LAWRENCE | JOSHUA | JOHN
LAWSON | CAMILLE | LYNN
LAYBON | TRULA | ANN
LE | NAMNGAN | THI
LE BOURDAIS-COFFEY | MARIE | YULAN
LE DANVIC | CHRISTELLE |
LEA | AMANDA | PRINCE
LEA | SUSAN | LOUISE
LEBREUX | BENJAMIN |
LEE | FALICIA |
LEE | HYUNG | GEUN
LEE | JANG | EUN
LEE | KYUNG | AE
LEE | REBECCA | JANE
LEE | SHIANG-CHI | PHILIP
LEE | SO | JUNG
LEE | SZE-YAN |
LEE | ZACHARY | HANO
LEGG | CHRISTOPHER | PETER
LEIBIK | ELIZABETH | BERTHA
LEITZELL | CHRISTOPHER | PAUL
LEKSTRUM | TAMARA |
LEMARQUAND | GRANT | READ
LEMARQUAND | WENDY | J.
LEMIEUX | SOPHIA | MELODIE
LESTER | JACQUELINE | BRIDGET
LEVINE | CATHERINE | ESTHER AMARINA
LEWIEN | TEGAN | ELSIE
LEWIS | THOMAS | J.
LI | HUAYU |
LI | XIAO | DING
LIAO | HAN | J.
LIBMAN | CHARLOTTE | ANN
LIE | CAROL | HODGE
LIGOT | SOPHIE | JULIETTE
LIN | SHERRY | CHEN
LIN | XIN |
LINDEMANS | ERIC | JAN
LINDEN | ANDREA | ANNE
LIND-PETERSEN | CAROL | ANN
LIPINSKI | COLLEEN | MARY
LITZLBAUER | KARINA | MARIA
LIZE | ROMAIN | ANTOINE
LO | PETER | KAI-FAI
LOCCHI | JOHN | RICHARD
LOCKE | JOHN | GARDNER
LOESCH | STEFFEN | GERHARD
LOFTHOUSE | MARIE | PAMELA
LOK | VAN | KEI
LOOS | BRIAN | DAVID
LOPOUKHINE | RAPHAEL |
LOUGHEED | JILL | MARION
LOWE | CLAIRE-LISE |
LOWE | VICTORIA | ROSE
LOWERY | CRAIG | SCOTT
LOWRANCE | JONATHAN | LAWSON
LOW-RIDGERS | KATHLEEN | MARIE
LUCAS | KERSTIN |
LUETZNER | MICHAEL | ROBERT
LUTHER | ALICIA | CELINE
LYNCH | BRIDGET | EILEEN
MAALA | ALVIN | BIEN
MACDONALD | FIONA | MARY
MACKAY-SIM | MATILDA | ROSE
MACLURE | KENNETH | MALCOLM
MACMILLAN | JOHN | ALEXANDER
MACNAGHTEN | ALEXANDER |
MADDEN | DANIEL | FRANCIS
MADELAINE | JENNIFER | KRISTEN
MADELEY | DONNA | MARIA
MADHOK | KALPANA |
MAEDA | TADAO |
MAGESAN | EASWAR |
MAHONEY | BRENDAN | J.
MAHONEY | JODY | M.
MALONEY | ALLAN | JOSEPH
MALPASS | FRANCESCA | CLAIRE
MAMMES | FEDERICO | A.
MANSHEIM | MATTHEW | JAMES
MANSON | DAISY | BETH
MARANA | ALESSANDRO |
MARCOTTE | DANIELLE | CARA
MARK | KEVIN | L.
MAROUF | HALA |
MARSCHKE | KAREN | LEE SANDRA
MARSDEN | STEWART | EDWARD
MARSDEN | VITTORIA | ALISON
MARSHALL | CHERYL | INDIRA
MARTEL | ANTOINE | FRANCOIS
MARTEL | CHARLOTTE | MARGUERITE
MARTIN | AMANDA | ELIZABETH CLAIRE
MARZOCCHI | SOPHIE |
MATSON | MARIE | FLEUR
MATSUI | SUMIKO |
MATSUMOTO | NAOMI |
MATSUMOTO | TOYOKAZU |
MAXEINER | MARIO |
MAXEINER | NICOLA |
MAXMIN | JONATHAN | WAYLAND
MAXWELL | APRIL | LYNN
MAYER | CYNTHIA | DOROTHY
MAYER | SABINE | BARBARA
MAZZOCCO | LAURE | SANDRA
MCADAMS | ANDREA | HANNOS
MCASSEY | MICHAEL | PATRICK
MCCABE | PATRICIA | MARY
MCCANN | NATALIE | CHIARA
MCCAVOUR | KAREN | LESLIE
MCCLELLAN | ROBERT | JOSEPH
MCCORMACK | ANTHONY | PAUL
MCCOURT FRITZ | ZOE | BENEDICTE RATNASOTHY
MCCREADY | JOHN | ROSS
MCELDERRY | HOWARD | INGRAM
MCGLADE | SOPHIE | JAYNE
MCGREGOR | COLIN | JAMES
MCGUIRE | PATRICIA | ANN
MCHUGH | KERRY | ANNE
MCINTOSH | PATRICIA | ANNE
MCKAY | STEPHANIE | ANNE
MCKINNEY | RICHARD | GREGORY LESTER
MCLEAN | REED | XAVIER
MCMULLIN | NEIL | FREDERICK
MCNALLY | AUDREY | ANN
MCNAMARA | ANETTE | OVERBECK
MCNAUGHTON | ROBERT | BRIAN
MCNEILL | SUSANNE | MICAELA
MCNULTY | ALEXANDER | PATRICK
MCVEIGH | COLLEEN | NICOLE
MEACHIN | ROSEMARY | CATALINA
MEALING | EMILY | SIMONE RAVAE
MEANEY-LECKIE | ANNETTE | MARIE
MEEKS | GEORG | BENJAMIN
MEI | LIJUAN |
MEIER | ROBERT | PAUL
MEIJER | MARTIJN | JAN
MELLUM | STEVEN |
MENDELOFF | DAVID | ADAM
MENKE | HANS | MARCEL
MENZEL | JOHAN | MORTIMER
MERCER | SARAH | LOUISE
MERKLING | SIAS | RUDOLPH
MERRITT | KAREN | ANNE
MEY | KATHLEEN | MARIE
MEYER | LUCY | ANN
MIDDLEHOFF | MATS | STEVEN
MILGRAM | DANIEL | ARTHUR
MILLER | BENJAMIN | LOUIS
MILLER | KAORU |
MILLER | NIKOLAI | ALEKZANDER
MILLER | PHILLIP | WAYNE
MILLER | SAMUEL | HENRY
MILLS | JONATHAN | K.
MILLS | RICHARD | JOHN
MILNE | JEFFREY | JAMES
MINAKI | TOMOYA |
MINAMOTO | EMIKO |
MINAMOTO | TAKAAKI |
MINER | DAVID | ELLIOTT
MINIHANE | DEREK | EDOUARD
MINIHANE | MICHAEL | JOSHUA
MISAK | NATHAN |
MITANI | YOKO |
MITCHELL | ROY | CURTIS
MITTER | REBEKAH | CATHERINE
MITTERBACHER | PETER | PETERNELLA
MIURA | TOMIO |
MIYAJIMA | AIKO |
MIYAJIMA | KOJI |
MIYASHITA | AI |
MIYASHITA | YUMI |
MIZUNO | TOORU |
MOCHIZUKI | KIMIHIRO |
MOCHIZUKI | MARIA |
MOCHIZUKI | MIHO |
MOFFAT | MERLIN | EUGENE
MOFFATT | CATHERINE | JANE
MOKSIM | JULIE | HANNA
MOLINA ASPIAZU | JOSE | RAYMUNDO
MONSELL | ADAM | REIBSTEIN
MONTEIRO | RITA | RIBAS
MONTGOMERY | BRONWYN | KATE
MOODY | LISA | DIANE
MOORE | LYDIA | CLAIRE TEMPLE
MOORE | STEPHEN | WAYNE
MOREIRA | STEFANY | JENNIFER RODRIGUES
MORITA | HIROMI |
MORITA | HIROSHI |
MORRIS | AOIBHE | ELIZABETH
MORSE | MEREDITH | LYNN
MORSE | ROBERT | WILLIAM
MORTENSON | KIRSTEN | MARGARET
MOSELEY | DARRYL | THOMAS
MULLAN | RANDALL | PATRICK
MULLEN | KENNETH |
MURNER | ZOE | CHARLOTTE ROXANNE
MURPHY | DECLAN |
MURPHY | JANE | NORA
MURPHY | JOHN | KIERAN
MURRAY | ELIZABETH | ANNE
MUSKETT-FORD | THOMAS | JAMES
MUSTERS | REINIER | MICHAEL
MYERS | LEILA | ELIZABETH
MYREHAUG | JOANNE | MAXINE
NAEF | PATRICIA | ANN
NAGASAWA | MIDORI |
NAITO | MOTOMI |
NAKAHARA | KIMIKO |
NAKAHASHI | KENZO |
NAKAHASHI | MASAKO |
NAKAMURA | RIEKO |
NAKAYAMA | HIROSHI |
NAKTINIS | GABRIELE | ASTRID
NAN | YIN |
NANNARONE | DIANE | MARIE
NAVARRO | IKER |
NAVE | RACHEL |
NAVE | SALEET | MAAYAN
NEILL | JANELLE | ADRIEN
NEILLY | ELIZABETH | ANN
NELSON | DEBORAH | MARIE
NELSON | JENNIFER | ANN
NERENBERG | LUCILA |
NESHAT | BECKETT | REBA MARIE
NETTLETON-HIGGINS | ANN | MARIE
NEUFELD | KATE | MORRISON
NEVAN | NICOL |
NEWBOLD | BLAKE | STEPHEN
NEWMAN | CRYSTAL | ANN
NEWMAN | OPAL | LEONITA
NG | VICKY | LAP-YIN
NGOC | MICHEL | MY NGUYEN
NICHOLS | KAREN | LYNN
NICHOLS | MICHAEL | RAY
NICKEL | DENISE | LAURENE
NICKERSON | KAITLYN | AMANDA
NICKLE | DONALD | WESLEY
NICOLLE | SANDRA | INDAH
NIEMAN | INEKE | MARIANNE
NIGH | EDWARD | JORAM
NISHIDA | HARUO |
NISHIGUCHI | MASATOSHI |
NISHIMURA | KANAE |
NISHIO | JOHN | MICHAEL
NIXON | CHRISTOPHER | AKEEM
NORMAND | ALEXANDRE | ROBERT
NORRIS | SCOTT | JAMES
NORTH | CAROLINE | MARIE
NORTON | LESLY | DEE
NORTON | SYLVIA | EILEEN
NOTHSTEIN | ALEXANDRA | KELLY
NOTHSTEIN | MARK | PHILIP
NOVAK | MAUREEN | KATHRYN
NOVAK | VICTORIA |
OBAYDA | CARINA | FARIS
OBERMAN | RAOUL | FOPPE MAARTEN LUTHER
OCHERA | JENNIFER | JOYCE
OCONNOR | FRANK | JOHN
OCONNOR | KATHRYN | LINDSEY
O'CONNOR | MARTIN | LAWRENCE
OGAWA | HITOSHI |
OGAWA | SACHIKO |
OKADA | HIROSHI |
OKANE | STEPHEN | MARK
OKIJIMA | MASAKO |
OKUDA | AIKO |
OKUDA | JUNICHI |
OLIN | PAMELA | GRACE
OLSEN | EBBA | MARYANNE
OLSEN | REINERT | KALLBEKKEN
OLSSON | FILIP | ERIK
ONG | LI | MIN
ONORIO | JOSEPH | HENRY
ORTON | ELIZABETH | MARY
OSBORNE | HEIDI | LEANNE
OSWALD | RANDAL | ROBERT
OTREBSKI | MICHAL | PAWEL
PADGETT | JESSIE | KENT
PADGETT | SAMUEL | DUNCAN
PADILLA | LAURA |
PAGE | PAMELA | HODGE
PAGE-ALLEN | COURTNEY | HODGES
PAL | REBECCA | RUTH
PALAZZO | MICHELLE | CLARE
PALK | NANCY | JANET
PARAGHAMIAN | GERARD |
PARIKH | TANMAY | NARENDRABHAI
PARK | HEE | KYUNG
PARKER | JEFFREY | IAN
PARKER | KERRY | JO MAPLEWOOD NICOLETTI
PARROTT | PHILLIP | STEPHEN
PARRY | LEILA | MADELINE
PATRICK | RUTH | JEANETTE
PATTON | TOBIAS | GOLDWAITE
PAULET | CHARLOTTE | MARIE DANIEL
PAULI | NATHANIEL | HANS
PAULI-HORNMAN | MARGARET | AUDREY
PAULINE | PAMELA | DAWN JENKINS
PAULOS | SOPHIA | DEJAIS COLLEL
PAVLOVA | ANNA | VLADIMIROVNA
PAYNE | THERESA | LEE
PEACOCK | HELEN | MARY
PEDERSEN | MICHAEL | AAGAARD
PERERA | NIROSHAN | EARDLEY
PERFETTA | BAPTISTE | ALEXIS
PERKINS | RUSSELL | HUGH
PETERS | BECKY | ANN
PETERS | MICHELE | ELIZABETH
PETRIE | LEELA |
PHENIX | ERIC |
PIAZZA | SAMUEL | RYAN
PIERCE | ANNETTE | LYNNE
PIETERS | PETRUS | ADRIAAN
PIKHURO | OLEG |
PIOMBO | SABRINA |
PIRAS | STEFANO |
PIZZINI | ALEX |
PLATT | ALEXIA | MAY
PLATT | JUSTINE | ELLEN
PLATT | THEODORE | LUKE
PLATTS | BRIAN | PALMER
PLATZER | ANDRE |
PLUMB | KATHRYN | MARY
PLUMB | WILLIAM | BRIAN
PODILA | PAVAN |
PODILA | SIRISHA | V.
POESSE | IRIS | LEANNE
POLKEY | OLIVER | JOHN
POLO | ERNESTO | CARLOS
POLYWJANYJ | MAYA | KIM
POMERANTZ | JEFFERY | PAUL
POMERANTZ | TAMAR | NATHALIE VOGT
PONTONI | GINA | RAE
POPE | DANIEL | DAVID
POPE | MICHAEL | AIDAN
PORA | RAYMOND | GLENN ROY
POSTILL | GORDON | DOUGLAS
POTHINENI | VINELA |
POTTER | ELIZABETH | JUNE
PRAKASH | ANISH | GANESH
PRASIFKA | WILLIAM | THOMAS
PREECE | ANDREW | CHRISTOPHER
PRESCOTT | STACIE | DIANNE
PRESTON | OLIVER | HUGH
PRIBIC | ANA |
PRIOR | KATERINA | GRETA
PROBST | STEPHANE |
PROFIT | LORAINNE | ANN
PROTOPAPAS | LYDIA | THEKLA
PURCELL | RIANA | MARIE
PURCHASE | EMILIE | MARIE
PYKE | JOHN | CHRISTIE
QUIRION | LINDA |
RAAP | LISA |
RABINOVITCH | SIMONA |
RAFFERTY | JAYME | DONNELLY
RAHMAN | ASAD | KHALID
RAINWATER | CORRINNA |
RAITH | JOHANNA | ALIA FATIMA SOPHIE
RAMI | CARLO |
RAMSEY | GREG | JAMES
RAMSTAD | JEFFREY | ARTHUR
RAMTOOLAH | JASMINE |
RANGER | CAROLYN | ELIZABETH
RANKIN | WILLIAM | JAMES
RAPPAPORT | HENRY | HILL
RATCLIFFE | KENNETH | DAVID
RATCLIFFE | WENDY | MARGARET
RAVETZ | GUDRUN | NATHANIA
RAWN | JESSICA | KASEY
RAYNSFORD | MARY | ANNE
REATEGUI | LORRAINE | EDITH
REDBRANDT | KARL | MIKAEL
REED | KEITH | MICHAEL
REID | CHRISTOPHER | WILLIAM ALAN
REITER | ESTER |
REYNOLDS | SHARON | LOUISE
RHEE | WON | JHONG
RICE | AARON | LEWIS
RICHARDS | NANCY | L.
RICHARDSON | JOANNE | ELIZABETH
RICHARDSON | MIYUKI | MARUYAMA
RICHARDSON | SAMANTHA | NEWMAN
RICHEI | CHRISTIAN | MAX
RICHER | ROSEMARY | LOUISE
RICKARD | KIM | MICHELLE
RICKERT | DENNIS | GARY
RIDLEY | HANNAH | GRACE
RIJSBERMAN | MARIJKE |
RIKKA | SAMUEL | PAUL AARON
RINTOUL | PATRICIA | LYNN
RIPLEY | CHRISTOPHER | ANDREW
RITCHIE | CONOR |
RITSKY | MICHAEL | ANTHONY
ROACH | MICHELLE | JOANNA
ROBERT | PATRICK | HENRY GORDON
ROBERTS | KENNETH | EUGENE
ROBERTSON | JUDITH | ANN
ROBERTSON | LYNSEY | MOIRA
ROBSON | EMMA | JOANNA
RODWELL | NATALIE | ELLEN
ROESNER | DANIEL | J.
ROGERS | SHEENA | JOAN
ROGERS | TRACY | MUTH
ROLDAN IPHAR | MARCELO | ALFREDO
ROMAN | TOBY | MICAH
ROMANO | CAMILLE |
ROMERIL | CAROL | LYNN SMITH
RONALD | PETER | ROBERT
RONSLEY | JILL |
ROSEKILLY | MATTHEW | WALTER
ROSS | ELIZABETH | PAMELA
ROSSI | LISA | ANN
ROTHENBERG | NEIL | ROBERT
ROZEBOOM | WILLIAM | ALAN
ROZENBERG | NIRIT | MIRIAM KAPLAN
RUSCH | ANIS | CAROL
RUSTAND | BRADEN | PATRICK
RYZNAR | JOSHUA | EDWARD
SABA | BASSAM | JAWDAT
SABSABI | BAYANE |
SADEE | KATELYN | THERESA
SAGAR | ANDREW | MICHAEL
SAKAI | KIMIKO |
SAKAI | OSAMU |
SALCHERT | MICHELE | RENE
SALOKA | SUSAN | JEAN
SALVADOR | KATELYN | MARIE
SAMUELS | ALEXA | DANIELLE
SAMUELSEN | KRISTIAN | REINHOLDT
SANDRI | KAREN | JOHNSON
SAUNDERS | ALEXANDER |
SAYERS | BLAKE | CALVIN
SAYERS | DONNA | MARIE
SAYERS | LUKE | HENRY
SCALETTA | JANE | LOUISE
SCARFINO | FRANK | ANTHONY
SCHACKER | JENNIFER | ANNE
SCHACKER | MAXINE | JABLONS
SCHACKER | S | DAVID
SCHAEFER | SEBASTIAN |
SCHEIDLER | MARGIT | SUSAN
SCHEMBRI | AMANDA | MARIA
SCHENK | MAXIMILIAN | RUEDIGER
SCHILLING | CLEO | ISABEL
SCHILPEROORT | NATHAN | TERANCE
SCHMIDT | KIERAN | GORDON
SCHNEIDER | NICOLAS | FEDERICO
SCHNEIDER | SILVIA | MARIA
SCHNEIDER | SUE | ANNE
SCHOEN | DANIELLE | CHRISTINE
SCHREDER | RALPH | ANDREAS
SCHROEDER | CORINNA | PIA
SCHROEDER | HARALD | TIMO
SCHULER | ROBERT | MICHAEL
SCHWARTZ | DAVID | ERIC
SCHWARTZ | HEIDI | JO
SCHWARTZBURG | YULIY |
SCHWYZER | NICOLE | ANDREA
SCOGGIN | CHRISTINE | LYN
SCOTT | JAMES | MICHAEL
SCOTT | NANCY | LYNN
SCUFALOS | PANTELLS | MARK
SEALOCK | DANIEL | KENNETH
SEDIKIDES | GEORGE | XERXIS
SEGAL | MELANIE | ROSE
SEGSWORTH | NANCY | JO
SEIDES | DANIEL |
SEKINE | CHIAMI |
SEMMLER | ARTHUR | HELMUT
SEMPLE | ALISON | MARY
SEO | EUN | CHEOL
SETBON | LITAL |
SEVERANCE | ALAN | FOSTER
SHAH | STUTI | R.
SHAHEEN | ROLA | M.
SHAPIRO | ISAAC |
SHARP | LEONORA | NICOLA
SHARPINGTON-RECNY | EMILY-JANE |
SHAVIT | MERAV | MAZAL
SHEBUNCHAK | LYDIA | CHRISTINE
SHEETS | DEVON | RAY
SHEFTEL | ALEXANDER | DAVID
SHEI | CHRISTOPHER | KAI
SHEININ | SPENCER | ROSS
SHEN | JIANJUN |
SHERAFAT | CYRUS | SHAHRIAR
SHERK | SHIRLEY | MAY
SHERWIN | THOMAS | ANTHONY
SHERWOOD | DYLAN | BRETTON
SHIELLS | DEREK | FRASER
SHIH | IVY | RHODA
SHIMA | KYOKO |
SHIMA | YOSHITSUGU |
SHIMIZU | YOSHIKI |
SHIPMAN | LORI | ANN
SHIRLEY | BENJAMIN | CHAMBERS
SHOKEIR | PHILIP | COLUMBUS
SHORE | MURRAY | HUGH
SHORT | REBECCA | YVONNE
SHORTLAND | MARIE | RITA
SIDENBERG | PHILIP | JOHN
SIDHU | RANJIT | SINGH
SILVER | IAN | KEITH
SILVERMAN | JUDITH YEHUDIT | KITT
SIMMONS | ELIZABETH | DIANA
SINOPOLI | NICHOLAS | PAUL
SKALA | JEMIMA | HOPE
SKARSTEDT | CARL | HENRIK
SLIFER | PAUL | ALEXANDER
SMITH | ANITA | LOUISE
SMITH | DESMOND | CLARENCE
SMITH | JILL | PARKES
SMITH | JOANNE |
SMITH | RENATE | YVONNE
SMITH | STEPHANIE | CAMPBELL
SMITH | TRACY | ALISON
SOLAR | PETER | MICHAEL
SOLOSKI | MICHAEL | ANTHONY
SOMA | KOSHI |
SOMA | NORIKATSU |
SONNIER | KEVIN | JOHN
SONTAG | HENRIETTE | KIRSTEN JENNIFER
SOROS PAGE | JENNIFER | LEE
SOUTHCOTT | LYNN | ELIZABETH
SPARKS | MIHO |
SPAULDING | CHARLES | ANTHONY
SPAYNE | MARY | CATHERINE
SPEAK | JOSEPH | WILLIAM
SPRIGGS | CHLOE | EMMA
SRIBNEY | DELLA | ROSE
SROKA | JAN | OLE
STAMNES | SONJA |
STANIER | EDWARD | JEFFREY
STANLEY | BAILEY | PAUL
STANLEY | PAIGE | JULIET
STAUDENBAUER | CLAUDIA |
STEARNS | JONATHAN | MONTEAGLE
STEER | LOUISE | BEATRICE
STEFANYSHYN | PAIGE | HEATHER
STEFFLER | SHARI | ANNE
STEIGER | ELISA | ANNATINA
STEMBERG | WILLIAM | ADAM
STENSRUDE | REESE | REID
STEPHENS | HANNAH | PATRICIA
STEVENS | ANNE-MARIE |
STEVENS | INES | SOFIA
STEVENS | TRAVIS | ALBERT
STEWART | KATHERINE | ANNA
STEWART | LAURA | LOUISE
STEWENER | VERENA | NAOMI
STOCKWELL | YUIKO | ITO
STONE | EVELYN |
STONE | IMOGEN | CECILY
STONEHILL | JAMES | CHARLES THOROTON
STOTMEISTER | KIRSTEN |
STRASENBURGH | LOUISE | JANE
STREFELER | ABIGAIL | LEE
STRINGHAM | GREGORY | LEE
STROFFOLINO | LISA | INOUE
STROM | MIRIAM | HANNAH
STRUCK | MICHAEL | PATRICK
ST-SAUVEUR | RAYMOND | FRANCIS
STUDDERT | LISA | JANE
STUTCHBURY | BENJAMIN | PETER
STYLES | MASAKO | KANEKO
SUCHE | NICHOLAS | ANTHONY
SUGIHARA | MIDORI |
SUGIHARA | NAOTO |
SUMMEY | STEPHEN | RAY
SUSHKO | OREST |
SUSMAN | DIANNE | JEN MEI
SUTHERLAND | ROBYN | MAREE
SUTTIE | LINDA | LEE
SUWANKORNSAKUL | CHANATHIP |
SWAINE | FRANCESCA | ANNA
SWALLOW | JOHN | CRAVEN
SWENSON | INGRID | NIKOLI
SY | GERALYN | JOY
SYLVER | MICHAEL | GORHAM
TADDONIO | PIETRO | GIORGIO
TAKABAYASHI | KEN |
TAKADA | YURIKO |
TAKAHAMA | MAKOTO |
TAKEDA | NAOKO |
TAKEKAWA | MASAMI |
TAKEUCHI | MEGUMI |
TAKEUCHI | TAKAKO |
TALVIA | SATU | MARKETTA
TANG | QIAN | YING
TANGYE | CHRISTOPHER | RICHARD
TANNER | FRANZISKA | BETTINA
TATAR | FRANCES | ANNE
TATE | CARLA | DENICE
TAUSCHER | SUSANNE | MARTINA
TAYLOR | CHRISTINE | JEAN
TAYLOR | MARTINA | CLAUDIA
TAYLOR | MARY BETH | TAYLOR
TAYLOR | MICHELLE | MIRANDA MELANIE
TAYLOR | SAMANTHA | JOAN
TEMPLIN MIKOLIC | ERIKA | MIRJAM
TERRY | THOMAS | WINTER
TETZLAFF | MICHAEL |
THOMAS | DAVID | ALAN
THOMAS | GREGORY | CHARLES
THOMAS | JENNIFER | LYNNE SEARLES
THOMAS | REIKO | KANAZAWA
THOMPSON | CANDICE | VIRGINIA
THOMPSON | DANIELLE | MAY
THOMPSON | DYLAN | MICHAEL
THOMPSON | ELAINE | LAVERNE
THOMPSON | KERRY | PETER
THOMSON | IVY | ELIZABETH
THURING | RETO |
TICHENOR | NATHANIEL | BENJAMIN
TILLEY | GORDON | WILLIAM
TILSTON | PHILIP | ANDREW
TIMBRELL | ANNA | CATHERINE
TIMONEY | KEVIN | PATRICK
TISSIER | EMILY | JOAN
TKACHUK | DOUGLAS | CAMERON
TONEY | MIGUEL | YOHANN
TORIDE | MAMORU |
TORMEY | SHEILA | ANNE
TOTSUKA | CHIEMI |
TOTSUKA | KEIICHI |
TOUBE | FELICITY | ROSALIND
TOUGAS | JESSIE | KAMOMIWAIWAINUI
TRACY | JAMES | JOHN
TRAPHAGAN | TOMOKO | WATANABE
TRAVERS-WAKEFORD | NICHOLAS | THOMAS
TREECK | DOMINIK |
TREVILLION | HELEN | ELIZABETH
TSANG | TAT | YIN
TSUNEYOSHI | TOSHIKO |
TUFFEN | MELANIE | GERALDINE
TULLOS | JOY | LYNN
TURI | BARBARA | ORRILL
TURNBULL | PAMELA | JEAN
TURNER | ELISSA |
TURNER | SUSAN | KAY
UHLER | LANE | KNIGHT
UMBRICHT | MILES | ERIC
UNDERWOOD | ALISON | KIRSTY
UNGER | ROBERT | EDWARD
VACHON DAY | ISABELLE |
VAN BEEK | CHIRSTIAAN | JOHN HUGO
VAN DER FLUIT | CHANTALLE | NICOLE VICTORIA
VAN DONGEN | JOSSIE | PIETA
VAN GELE | SAMUEL | RENE HILAIRE
VANLEUR | INGRID | HENRICA JOSE
VARVARO | MARILYN | DIANNE
VELILLA CADAHIA | MARIA | DEL ROCIO
VEN | SHELDON | SUI TUNG
VERMONT | MARIA | JOHANNA
VERREAULT | ANDREA | TIFFANY
VERVEER | SABINE | MARIE PAULE
VEYSEY | ALLISON | NICOLE
VIDLER | TIMOTHY | EMERSON
VIOLA | PHILIPPE | ADRIEN
VIOLETTE | GAYLE |
VISCHER | ANTHONY | GUY
VISCOMI | KAREN | TIZIANA
VISSER | HEATHER | EMILY
VISSER | ODD | MAARTEN
VOEGELI | TRACY | SUSAN
VON ESCHEN | MARK | WOLFORD
VON RETTIG II | MICHAEL | GABRIEL PAUL
VUJICA | SRDJAN |
WACKWITZ | ELEANOR | GWENDOLYN HENRIETTE
WAGNER | RICHARD | MARTIN
WAGSTAFF | SHEENA | VANESSA
WAHL | NIKOLAUS | AUGUST
WAINWRIGHT | JANE | MYLANDER
WAKELEY | SUSAN | ELIZABETH
WAKEMAN | CLAUDIA | MARIE
WALKER | BRYAN | MARK
WALKER | JAMES | BRANNAN
WALKER | STEPHEN | RICHARD
WALLACE | CHRISTINA | LYNN
WALLACE | KIRI | JOY
WALLEN | DAVID | PETER
WALLIS | KAAREN | EKWURZEL
WALTER | CHRISTOPHER | JOHN
WALTERS-MORGAN | HANNAH | LOUISE
WANAMAKER | DALLAS | RAE
WANG | CHUNHE |
WANG | HUI | WEN
WANG | JIN | TAI
WANG | JINGXI |
WARDEN | LAINE | ROWE
WARNER | MURRAY | JAY
WATT | CARRIE | ANN
WEBB | MYRIAM |
WEBSTER | CARLA | ANN
WEBSTER | CATHERINE | AESOLE
WECKNER | DAVID | ANDERS
WEIDMANN | ELIZABETH | M.
WEIGHTS | VIOLA | IRENE
WEINKAM | SARAH | ELIZABETH
WEIR | SAMUEL | BEATTIE
WELSH | REUBEN | THOMAS
WENG | TIFFANY |
WENGER | STEVEN | PAUL
WENTE | MARGARET | ALICE
WESP | BEATRICE | MADELENE
WEST | PAUL | JONATHAN
WESTLAKE | ERIN | GWYNNE
WESTLAKE | LAURA | ANN
WETTEL | PHILIPPE | GUSTAVE
WHEELER | DEBORAH | MARIE
WHITE | EMIKO | A.
WHITE | SIMON |
WHITESIDE | EMMA | JANE
WICK | BEAT | MARKUS
WIDMAIER | MICHAEL | JOHANNES THEODOR
WIENER | RAFAEL | MOSHE
WIGHT | ANNE | MICHELE
WILDMOSER | JOHANNA |
WILKINS | JAMES | GERARD
WILKINSON | JEROME | RICHARD
WILLER | BARRY | STEWART
WILLIAMS | GLENN | JASON
WILLIAMS | JOHN | BRIAN
WILLIAMS | KIYOMI |
WILLIAMS | KYLIE | MARIE
WILLIAMS | MILLER | JAMES
WILLIAMS | RUSSELL | GORDON
WILLIS | CAROLINE | ANNE
WILLIS | MAYA | ROCHELLE
WILSON | ADAM | DAVID
WILSON | ANDREW | MORGAN
WILSON | GABRIELLE |
WILSON | REBECCA | DAVIES
WISNESKI | MATTHEW | PAUL
WITZEL | MICHAEL | PAUL
WOELK | LARRY | GENE
WOELK | RITA | THERESA
WOLFSBERGER | PHILIP | ROBERT
WONFOR | LAUREN | VICTORIA
WOOD | MONET | BLACKBURN
WOODWARD | MATTHEW | THOMAS
WOOFTER | MICHAEL | BLAND
WOOLLAM | GABRIEL | BARUEH
WORLING | HEATHER | CHRISTINE
WORTH | GARY | DUANE
WRIGHT | KAREN | ELIZABETH
WU | HUANNAN |
WU | YIFAN |
WUERGLER | JEANNETTE | LYNN
WUERGLER | PATRICIA | CATHERINE
WURGLER | MARTIN | CHRISTIAN
WURTZEL | DAVID | IRA
WUTHNOW | JULIE |
WYERS | STEPHEN |
XANTHOUDAKIS | ALEXANDRA | VICTORIA
XU | CHENHUAI |
XUEREB | MELANIE |
YABAR | ANTONIO | MARTIN
YAGISAWA | KAORU |
YAKIMOVITCH | KYLE | TAYLOR
YAMAMOTO | MITSUKO |
YAMASHITA | KELLY | HAN
YANAI | YASUE |
YANG | CHU | CHUN
YANG | JEFFREY |
YANKOV | IVAN | ALEKSANDROV
YELLE | NORMAN | DONAT
YEN | SHELLY | LING RONG
YENAL VANCE | AYSE |
YETMAN | KRISTY | JILL LYNETTE
YEUNG | JEREMY | MARCUS
YONEYAMA | IKUYO |
YOSHIDA | MICHIKO |
YOSHIYAMA | EIICHI |
YOSHIYAMA | KYOKO |
YOU | AUDREY | LEE
YOUNG | CHERI | ANNE
YOUNG | DONALD | GALVIN
YOUNG | KIRSTI | JOY
ZAHRAN | NAHL | HISHAM
ZAID | MOHAMMED | MURTAZA
ZEFFERT | SHERRY | LYNN
ZEIN | ZIAD |
ZHANG | FENG |
ZHANG | QI | WEN
ZHANG | XIAOQIU |
ZHENG | RUIXIA |
ZIGIC | DRAGANA |
ZUFIRIA | ION | BORJA
ZUURE | JUSTIN | RAIMUND

Dated: October 7, 2025.
Kevin T. Hall,
Senior Revenue Agent Team 1942, CSDC—Compliance Support, Development & Communications.

LB&I:WEIIC:IIC:T4

[FR Doc. 2025-19980 Filed 11-14-25; 8:45 am]

BILLING CODE 4830-01-P